ARCHITECTURAL AND TRANSPORTATION BARRIERS COMPLIANCE BOARD

36 CFR Part 1191

RIN 3014-AA22

Americans With Disabilities Act (ADA) Accessibility Guidelines for Buildings and Facilities; Architectural Barriers Act (ABA) Accessibility Guidelines; Correction

AGENCY: Architectural and Transportation Barriers Compliance Board.

ACTION: Final rule; correction.

SUMMARY: The Architectural and Transportation Barriers Compliance Board (Access Board) is correcting a document that appeared in the Federal Register of September 26, 2013 (78 FR 59476). The document issued a final rule that amended the Architectural Barriers Act Accessibility Guidelines by adding scoping and technical requirements for camping facilities, picnic facilities, viewing areas, trails, and beach access routes constructed or altered by or on behalf of federal agencies. The document set out the Architectural Barriers Act Accessibility Guidelines in their entirety, as amended by the final rule, and also set out the Americans with Disabilities Act Accessibility Guidelines in their entirety as word searchable text since both sets of guidelines were previously issued as “camera ready” images that could not be amended.

DATES: Effective November 25, 2013.

FOR FURTHER INFORMATION CONTACT: James Raggio, Access Board, 1331 F Street NW., Suite 1000, Washington, DC 20004-1111. Telephone: (202) 272-0040 (voice) or (202) 272-0062 (TTY). Email address: raggio@access-board.gov.

SUPPLEMENTARY INFORMATION: In FR Doc. 2013-22876 appearing on page 59476 in the Federal Register of Thursday, September 26, 2013 (78 FR 59476), the following corrections are made:

Appendix B to Part 1191—Americans With Disabilities Act: Scoping [Corrected]

1. On page 59500, in the third column, in 207.1 General, “Means of egress shall comply with section 1003.2.13 of the International Building Code (2000 edition and 2001 Supplement) or section 1007 of the International Building Code (2003 edition) (incorporated by reference, see Referenced Standards” in Chapter 1).” is corrected to read “Means of egress shall comply with section 1003.2.13 of the International Building Code (2000 edition and 2001 Supplement) or section 1007 of the International Building Code (2003 edition) (incorporated by reference, see “Referenced Standards” in Chapter 1).”

2. On page 59500, in the third column, and continuing on page 59501, in the first column, Table 208.2—PARKING SPACES is corrected to read as follows:

Table 208.2—Parking Spaces
Total number of parking spaces provided in parking facility | Minimum number of required accessible parking spaces
1 to 25 | 1.
26 to 50 | 2.
51 to 75 | 3.
76 to 100 | 4.
101 to 150 | 5.
151 to 200 | 6.
201 to 300 | 7.
301 to 400 | 8.
401 to 500 | 9.
501 to 1000 | 2 percent of total.
1001 and over | 20, plus 1 for each 100, or fraction thereof, over 1000.

3. On page 59507, in the first column, in 233.2 Residential Dwelling Units Provided by Entities Subject to HUD Section 504 Regulations, “Where facilities with residential dwelling units are provided by entities subject to regulations issued by the Department of Housing and Urban Development (residential dwelling units with mobility features complying with 809.2 through 809.4 in a number required by the applicable HUD regulations.” is corrected to read “Where facilities with residential dwelling units are provided by entities subject to regulations issued by the Department of Housing and Urban Development (HUD) under Section 504 of the Rehabilitation Act of 1973, as amended, such entities shall provide residential dwelling units with mobility features complying with 809.2 through 809.4 in a number required by the applicable HUD regulations.”

Appendix C to Part 1191—Architectural Barriers Act Act: Scoping [Corrected]

4. On page 59509, in the second column, remove F104.3 Figures.

5. On page 59515, in the third column, in F207.1 General, “Means of egress shall comply with section 1003.2.13 of the International Building Code (2000 edition and 2001 Supplement) or section 1007 of the International Building Code (2003 edition) (incorporated by reference, see Referenced Standards” in Chapter 1).” is corrected to read “Means of egress shall comply with section 1003.2.13 of the International Building Code (2000 edition and 2001 Supplement) or section 1007 of the International Building Code (2003 edition) (incorporated by reference, see “Referenced Standards” in Chapter 1).”

Appendix D to Part 1191—Technical [Corrected]

6. On page 59529, in the second column, in 404.3 Automatic and Power-Assisted Doors and Gates, “Full-powered automatic doors shall comply with ANSI/BHMA A156.10 (incorporated by reference, see Referenced Standards” in Chapter 1).” is corrected to read “Full-powered automatic doors shall comply with ANSI/BHMA A156.10 (incorporated by reference, see “Referenced Standards” in Chapter 1).”

7. On page 59529, in the third column, in 404.3.7 Revolving Doors, Revolving Gates, and Turnstiles, “Revolving doors, revolving gates, and turnstiles shall not be part of an 405 Ramps” is corrected to read “Revolving doors, revolving gates, and turnstiles shall not be part of an accessible route.”

8. On page 59529, in the third column, 405 Ramps and 405.1 General are corrected to read as set forth below.

405 Ramps

405.1 General. Ramps on accessible routes shall comply with 405.

9. On page 59530, in the first column, in 406.1 General, “Curb ramps accessible routes shall comply with 406, 405.2 through 405.5, and 405.10.” is corrected to read “Curb ramps on accessible routes shall comply with 406, 405.2 through 405.5, and 405.10.”

10. On page 59530, in the second column, in 407.1 General, “Elevators shall comply with 407 and with ASME A17.1 (incorporated by reference, see Referenced Standards” in Chapter 1).” is corrected to read “Elevators shall comply with 407 and with ASME A17.1 (incorporated by reference, see “Referenced Standards” in Chapter 1).

11. On page 59530, in the third column, in 407.2.2.1 Visible and Audible Signals, “A visible and audible signal shall be provided at each hoist-way entrance to indicate which car is answering a call and the car's direction of travel.” is corrected to read “A visible and audible signal shall be provided at each hoistway entrance to indicate which car is answering a call and the car's direction of travel.”

12. On page 59530, in the third column, in 407.2.2.2 Visible Signals, EXCEPTION 1, “Destination-oriented elevators shall be permitted to have signals visible from the floor area adjacent to the hoist-way entrance.” is corrected to read “Destination-oriented elevators shall be permitted to have signals visible from the floor area adjacent to the hoistway entrance.”

13. On page 59530, in the third column, 407.2.3 Hoist-way Signs is corrected to read as follows:

407.2.3 Hoistway Signs. Signs at elevator hoistways shall comply with 407.2.3.

14. On page 59530 in the third column and continuing on page 59531 in the first column, in 407.2.3.1 Floor Designations, “Floor designations complying with 703.2 and 703.4.1 shall be provided on both jambs of elevator hoist-way entrances.” is corrected to read “Floor designations complying with 703.2 and 703.4.1 shall be provided on both jambs of elevator hoistway entrances.”

15. On page 59531, in the first column, in 407.2.3.2 Car Designations, “Destination-oriented elevators shall provide tactile car identification complying with 703.2 on both jambs of the hoist-way immediately below the floor designation.” is corrected to read “Destination-oriented elevators shall provide tactile car identification complying with 703.2 on both jambs of the hoistway immediately below the floor designation.”

16. On page 59531, in the first column, in 407.3 Elevator Door Requirements, “Hoist-way and car doors shall comply with 407.3.” is corrected to read “Hoistway and car doors shall comply with 407.3.”

17. On page 59531, in the first column, 407.3.2 Operation is corrected to read as follows:

407.3.2 Operation. Elevator hoistway and car doors shall open and close automatically.

EXCEPTION: Existing manually operated hoistway swing doors shall be permitted provided that they comply with 404.2.3 and 404.2.9. Car door closing shall not be initiated until the hoistway door is closed.

18. On page 59531, in the first column and continuing in the second column, in 407.3.3 Reopening Device, “Elevator doors shall be provided with a reopening device complying with 407.3.3 that shall stop and reopen a car door and hoist-way door automatically if the door becomes obstructed by an object or person.” is corrected to read “Elevator doors shall be provided with a reopening device complying with 407.3.3 that shall stop and reopen a car door and hoistway door automatically if the door becomes obstructed by an object or person.”

19. On page 59531, in the second column and continuing in the third column, in 407.3.4 Door and Signal Timing, “T = D/(1.5 ft/s) or T = D/(455 mm/s) = 5 seconds minimum where T equals the total time in seconds and D equals the distance (in feet or millimeters) from the point in the lobby or corridor 60 inches (1525 mm) directly in front of the farthest call button controlling that car to the centerline of its hoist-way door.” is corrected to read “T = D/(1.5 ft/s) or T = D/(455 mm/s) = 5 seconds minimum where T equals the total time in seconds and D equals the distance (in feet or millimeters) from the point in the lobby or corridor 60 inches (1525 mm) directly in front of the farthest call button controlling that car to the centerline of its hoistway door.”

20. On page 59531, in the first column, 407.4.3 Platform to Hoist-way Clearance is corrected to read as follows:

407.4.3 Platform to Hoistway Clearance. The clearance between the car platform sill and the edge of any hoistway landing shall be 1¼; inch (32 mm) maximum.

21. On page 59532, in the first column, in 407.4.7.1.3 Symbols, “The control button for the emergency stop, alarm, door open, door close, main entry door, and phone shall be identified with tactile symbols as shown in Figure 407.4.7.3 at the end of this document.” is corrected to read “The control button for the emergency stop, alarm, door open, door close, main entry floor, and phone shall be identified with tactile symbols as shown in Figure 407.4.7.1.3 at the end of this document.”

22. On page 59532, in the first column and continuing in the second column, in 408.1 General, “Limited-use/limited-application elevators shall comply with 408 and with ASME A17.1 (incorporated by reference, see Referenced Standards” in Chapter 1).” is corrected to read “Limited-use/limited-application elevators shall comply with 408 and with ASME A17.1 (incorporated by reference, see “Referenced Standards” in Chapter 1).”

23. On page 59532, in the second column, 408.2.3 Hoist-way Signs is corrected to read as follows:

408.2.3 Hoistway Signs. Signs at elevator hoistways shall comply with 407.2.3.1.

24. On page 59532, in the second column, in 408.3 Elevator Doors, “Elevator hoist-way doors shall comply with 408.3.” is corrected to read “Elevator hoistway doors shall comply with 408.3.”

25. On page 59532, in the second column, in 408.3.1 Sliding Doors, “Sliding hoist-way and car doors shall comply with 407.3.1 through 407.3.3 and 408.4.1.” is corrected to read “Sliding hoistway and car doors shall comply with 407.3.1 through 407.3.3 and 408.4.1.”

26. On page 59532, in the second column, in 408.3.2 Swinging Doors, “Swinging hoist-way doors shall open and close automatically and shall comply with 404, 407.3.2 and 408.3.2.” is corrected to read “Swinging hoistway doors shall open and close automatically and shall comply with 404, 407.3.2 and 408.3.2.”

27. On page 59532, in the second column, 408.4.3 Platform to Hoist-way Clearance is corrected to read as follows:

408.4.3 Platform to Hoistway Clearance. The platform to hoistway clearance shall comply with 407.4.3.

28. On page 59532, in the third column, in 409.3 Elevator Doors, “Hoist-way doors, car doors, and car gates shall comply with 409.3 and 404.” is corrected to read “Hoistway doors, car doors, and car gates shall comply with 409.3 and 404.”

29. On page 59532, in the third column, 409.3.1 Power Operation is corrected to read as follows:

409.3.1 Power Operation. Elevator car and hoistway doors and gates shall be power operated and shall comply with ANSI/BHMA A156.19 (1997 or 2002 edition) (incorporated by reference, see “Referenced Standards” in Chapter 1). Power operated doors and gates shall remain open for 20 seconds minimum when activated.

EXCEPTION: In elevator cars with more than one opening, hoistway doors and gates shall be permitted to be of the manual-open, self-close type.

30. On page 59532, in the third column, “409.4.3 Platform to Hoist-way Clearance” is corrected to read “409.4.3 Platform to Hoistway Clearance”.

31. On page 59532, in the third column, in 410.1 General, “Platform lifts shall comply with ASME A18.1 (1999 edition or 2003 edition) (incorporated by reference, see Referenced Standards” in Chapter 1).” is corrected to read “Platform lifts shall comply with ASME A18.1 (1999 edition or 2003 edition) (incorporated by reference, see “Referenced Standards” in Chapter 1).”

32. On page 59538, in the first column and continuing in the second column, in 702.1 General, “Fire alarm systems shall have permanently installed audible and visible alarms complying with NFPA 72 (1999 or 2002 edition) (incorporated by reference, see Referenced Standards” in Chapter 1), except that the maximum allowable sound level of audible notification appliances complying with section 4-3.2.1 of NFPA 72 (1999 edition) shall have a sound level no more than 110 dB at the minimum hearing distance from the audible appliance.” is corrected to read “Fire alarm systems shall have permanently installed audible and visible alarms complying with NFPA 72 (1999 or 2002 edition) (incorporated by reference, see “Referenced Standards” in Chapter 1), except that the maximum allowable sound level of audible notification appliances complying with section 4-3.2.1 of NFPA 72 (1999 edition) shall have a sound level no more than 110 dB at the minimum hearing distance from the audible appliance.”

33. On page 59539, Table 703.5.5—Visual Character Height is corrected to read as set forth below.

Table 703.5.5—Visual Character Height
Height to finish floor or ground from baseline of character | Horizontal viewing distance | Minimum character height
40 inches (1015 mm) to less than or equal to 70 inches (1780 mm) | less than 72 inches (1830 mm) | ⅝ inch (16 mm).
| 72 inches (1830 mm) and greater | ⅝ inch (16 mm), plus ⅛ inch (3.2 mm) per foot (305 mm) of viewing distance above 72 inches (1830 mm).
Greater than 70 inches (1780 mm) to less than or equal to 120 inches (3050 mm) | less than 180 inches (4570 mm) | 2 inches (51 mm).
| 180 inches (4570 mm) and greater | 2 inches (51 mm), plus ⅛ inch (3.2 mm) per foot (305 mm) of viewing distance above 180 inches (4570 mm).
Greater than 120 inches (3050 mm) | less than 21 feet (6400 mm) | 3 inches (75 mm).
| 21 feet (6400 mm) and greater | 3 inches (75 mm), plus ⅛ inch (3.2 mm) per foot (305 mm) of viewing distance above 21 feet (6400 mm).

34. On page 59542, in the third column, in 809.5.2 Residential Dwelling Unit Smoke Detection System, “Residential dwelling unit smoke detection systems shall comply with NFPA 72 (1999 or 2002 edition) (incorporated by reference, see Referenced Standards” in Chapter 1).” is corrected to read “Residential dwelling unit smoke detection systems shall comply with NFPA 72 (1999 or 2002 edition) (incorporated by reference, see “Referenced Standards” in Chapter 1).”

35. On page 59543, in the third column, in 810.9 Escalators, “Where provided, escalators shall comply with the sections 6.1.3.5.6 and 6.1.3.6.5 of ASME A17.1 (incorporated by reference, see Referenced Standards” in Chapter 1) and shall have a clear width of 32 inches (815 mm) minimum.” is corrected to read “Where provided, escalators shall comply with the sections 6.1.3.5.6 and 6.1.3.6.5 of ASME A17.1 (incorporated by reference, see “Referenced Standards” in Chapter 1) and shall have a clear width of 32 inches (815 mm) minimum.”

36. On page 59546, in the third column, in 1008.2.6.1 Accessibility, “Ground surfaces shall comply with ASTM F1951 (incorporated by reference, see Referenced Standards” in Chapter 1). Ground surfaces shall be inspected and maintained regularly and frequently to ensure continued compliance with ASTM F1951.” is corrected to read “Ground surfaces shall comply with ASTM F1951 (incorporated by reference, see “Referenced Standards” in Chapter 1). Ground surfaces shall be inspected and maintained regularly and frequently to ensure continued compliance with ASTM F1951.”

37. On page 59552, Figure 407.4.7.1.3 is corrected to read as set forth below.

BILLING CODE 8150-01-P

38. On page 59553, Figure 703.7.2.1.1 is redesignated as Figure 703.7.2.1 and corrected as set forth below.

39. On page 59553, Figure 703.7.2.2.1 is redesignated as Figure 703.7.2.2 and corrected as set forth below.

40. On page 59553, Figure 703.7.2.4.1 is redesignated as Figure 703.7.2.4 and corrected as set forth below.

David M. Capozzi,
Executive Director.

[FR Doc. 2013-26780 Filed 11-8-13; 8:45 am]

BILLING CODE 8150-01-C